DEPARTMENT OF LABOR

Employment and Training Administration

[TA-W-52,507]

Vermont Tubbs, Inc., A Division of Carris Financial Corporation, Brandon, Vermont; Notice of Termination of Investigation

Pursuant to section 221 of the Trade Act of 1974, as amended, an investigation was initiated on August 11, 2003 in response to a petition filed by a company official on behalf of workers at Vermont Tubbs, Inc., a division of Carris Financial Corporation, Brandon, Vermont.

The petitioner has requested that the petition be withdrawn. Consequently, the investigation has been terminated.

Signed at Washington, DC, this 26th day of August, 2003.
Linda G. Poole,
Certifying Officer, Division of Trade Adjustment Assistance.

[FR Doc. 03-23718 Filed 9-16-03; 8:45 am]

BILLING CODE 4510-30-P